DEPARTMENT OF THE INTERIOR

National Park Service

30-Day Notice of Submission to the Office of Management and Budget; Opportunity for Public Comment

AGENCY: National Park Service, Department of the Interior.

ACTION: Notice and request for comments.

SUMMARY: Under provisions of the Paperwork Reduction Act of 1995 and 5 CFR Part 1320, Reporting and Recordkeeping Requirements, the National Park Service (NPS) invites comments on an extension of a currently approved collection of information (OMB Control Number 1024-0233).

DATES: Public comments on the Information Collection Request (ICR) will be accepted on or before July 25, 2007.

ADDRESSES: You may submit comments directly to the Desk Officer for the Department of the Interior (OMB Number 1024-0233), Office of Information and Regulatory Affairs, OMB, by fax at 202/395-6566, or by electronic mail at OIRA_DOCKET@omb.eop.gov. Please also send a copy of your comments to Ms. Jo A. Pendry, Concession Program Manager, National Park Service, 1849 C Street, NW. (2410), Washington, DC 20240, or electronically to jo_pendry@nps.gov.

FOR FURTHER INFORMATION CONTACT: Ms. Jo A. Pendry, phone: 202-513-7156; fax: 202-371-2090; or at the address above. You are entitled to the entire ICR package free-of-charge.

Comments Received on the 60-day Federal Register Notice: The NPS published the 60-day Federal Register Notice to solicit comments on this ICR on March 30, 2007, on page 15158. There were no public comments received as a result of publishing this 60-Day Federal Register Notice.

SUPPLEMENTARY INFORMATION:

Title: National Park Service Leasing Program—36 CFR part 18.

Form Number(s): None.

OMB Control Number: 1024-0233.

Expiration Date of Approval: June 30, 2007.

Type of Request: Extension of a currently approved information collection.

Description of Need: The information is being collected to meet the requirements of Section 802 of the NPS Concessions Management Improvement Act of 1998, concerning the legislative authority, policies, and requirements for the solicitation, award, and administration of NPS leases for property located within area of the national park system. The obligation to respond is required to obtain or retain benefits.

Frequency of Collection: On occasion.

Description of Respondents: Persons or entities seeking a leasing opportunity with the National Park Service.

Estimated average number of respondents: 627 per year.

Estimated average number of responses: 627 per year.

Estimated average time burden per response: 7 hours.

Frequency of response: Once per respondent.

Estimated total annual reporting burden: 4,392 hours.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: June 18, 2007.
Leonard E. Stowe,
NPS, Information Collection Clearance Officer.

[FR Doc. 07-3089 Filed 6-22-07; 8:45 am]

BILLING CODE 4312-53-M